DEPARTMENT OF HEALTH AND HUMAN SERVICES

National Institutes of Health

The National Institutes of Health (NIH) Sexual & Gender Minority Research Listening Session

AGENCY: National Institutes of Health, HHS.

ACTION: Notice.

SUMMARY: The National Institutes of Health (NIH) Sexual & Gender Minority Research Office (SGMRO) will be holding its second annual listening session with Sexual & Gender Minority (SGM)-focused organizations. The primary objective of the NIH's listening session is to hear from community stakeholders about what issues are on their minds regarding SGM-related research and related activities at NIH. The goal is to hold an annual listening session every year, to provide different SGM focused organizations an opportunity to speak.

DATES: The listening session with the SGM community will be held on November 19, 2020, at 1:00 p.m. ET.

ADDRESSES: The meeting will be held virtually as a WebEx Event, and it will be open to the public to listen. Information about the meeting and registration to attend are at this link: https://dpcpsi.nih.gov/sgmro/listening-session.

FOR FURTHER INFORMATION CONTACT: Irene Avila, Ph.D., Assistant Director, Sexual & Gender Minority Research Office (SGMRO), 6555 Rock Spring Drive, Rm. 2SE31J, Bethesda, MD 20817, avilai@mail.nih.gov, 301-594-9701.

SUPPLEMENTARY INFORMATION: “Sexual and gender minority” is an umbrella term that includes, but is not limited to, individuals who identify as lesbian, gay, bisexual, asexual, transgender, Two-Spirit, queer, and/or intersex. Individuals with same-sex or -gender attractions or behaviors and those with a difference in sex development are also included. These populations also encompass those who do not self-identify with one of these terms but whose sexual orientation, gender identity or expression, or reproductive development is characterized by non-binary constructs of sexual orientation, gender, and/or sex.

In accordance with Section 404N of the 21st Century Cures Act (Pub. L. 114-255), the Sexual and Gender Minority Research Office (SGMRO) coordinates sexual and gender minority (SGM)-related research and activities by working directly with NIH Institutes, Centers, and Offices. The Office was officially established in September 2015 within the NIH Division of Program Coordination, Planning, and Strategic Initiatives in the Office of the Director.

The SGMRO has the following operational goals: (1) Advance rigorous research on the health of SGM populations in both the extramural and intramural research communities; (2) expand SGM health research by fostering partnerships and collaborations with a strategic array of internal and external stakeholders; (3) foster a highly skilled and diverse workforce in SGM health research; and (4) encourage data collection related to SGM populations in research and the biomedical research workforce.

Listening Session Details

The listening session event will be an NIH-wide effort, with representation from the SGMRO and other NIH Institutes, Centers, and Offices. The listening session will be open to the public to listen in; comments submitted via email will be accepted post-listening session. The session will be recorded a posted on the SGMRO website approximately one month post-session. Comments, questions, or feedback can be shared with SGMRO@nih.gov. SGMRO will invite approximately 13 SGM-focused organizations to present at the listening session. Selection of the organizations will be based on the diversity of their missions and efforts.

Dated: October 19, 2020.
Lawrence A. Tabak,
Principal Deputy Director, National Institutes of Health.

[FR Doc. 2020-23589 Filed 10-23-20; 8:45 am]

BILLING CODE 4140-01-P